FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011409-014.

Title: Transpacific Carrier Services Inc. Agreement.

Parties: American President Lines, Ltd./APL Co. Pte Ltd.; CMA CGM, S.A.; China Shipping Container Lines Co., Ltd.; COSCO Container Lines Co., Ltd.; Evergreen Marine Corporation; Hanjin Shipping Co., Ltd.; Hapag-Lloyd AG; Hyundai Merchant Marine Co., Ltd.; Kawasaki Kisen Kaisha, Ltd.; Mitsui O.S.K. Lines, Ltd.; Nippon Yusen Kaisha, Ltd.; Orient Overseas Container Line Limited; and Yang Ming Marine Transport Corp.

Filing Party: Wayne R. Rohde, Esq.; Sher & Blackwell; 1850 M Street, NW.; Suite 900; Washington, DC 20036.

Synopsis: The amendment would substitute COSCO Container Lines (Hong Kong) Co., Limited, for COSCO Container Lines Co., Ltd. and update COSCO's address. The parties request expedited review.

Agreement No.: 011547-023.

Title: Eastern Mediterranean Discussion Agreement.

Parties: COSCO Container Lines Co. Ltd.; China Shipping Container Lines Co., Ltd.; and Zim Integrated Shipping Services, Ltd.

Filing Party: Wayne R. Rohde, Esq.; Sher & Blackwell LLP; 1850 M Street, NW.; Suite 900; Washington, DC 20036.

Synopsis: The amendment would substitute COSCO Container Lines (Hong Kong) Co., Limited, for COSCO Container Lines Co., Ltd. and update COSCO's address. The parties request expedited review.

Agreement No.: 011679-007.

Title: ASF/SERC Agreement.

Parties: American President Lines, Ltd./APL Co. Pte Ltd.; ANL Singapore Pte Ltd.; China Shipping (Group) Company/China Shipping Container Lines, Co. Ltd.; COSCO Container Lines, Ltd.; Evergreen Marine Corp. (Taiwan) Ltd.; Hanjin Shipping Co., Ltd.; Hyundai Merchant Marine Co., Ltd.; Kawasaki Kisen Kaisha, Ltd.; Mitsui O.S.K. Lines, Ltd.; Nippon Yusen Kaisha; Orient Overseas Container Line Ltd.; Sinotrans Container Lines Co., Ltd.; Wan Hai Lines Ltd.; and Yang Ming Marine Transport Corp.

Filing Party: Wayne R. Rohde, Esq.; Sher & Blackwell; 1850 M Street, NW.; Suite 900; Washington, DC 20036.

Synopsis: The amendment would substitute COSCO Container Lines (Hong Kong) Co., Limited, for COSCO Container Lines Co., Ltd. and update COSCO's address. The parties request expedited review.

By Order of the Federal Maritime Commission.
Dated: February 1, 2007.
Bryant L. VanBrakle,
Secretary.

[FR Doc. E7-1935 Filed 2-6-07; 8:45 am]

BILLING CODE 6730-01-P